DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Wednesday, November 17, 2010.

FOR FURTHER INFORMATION CONTACT: Ms. Anna Millikan, Program Analyst, National Public Liaison, CL:NPL, 7559, 1111 Constitution Avenue, NW., Washington, D.C. 20224. Telephone: 202-622-6433 (not a toll-free number). E-mail address: *public_liaison@irs.gov.

SUPPLEMENTARY INFORMATION: Notice is hereby given pursuant to section 10(a)(2) of the Federal Advisory Committee Act, 5 U.S.C. App. (1988), a public meeting of the IRSAC will be held on Wednesday, November 17, 2010, from 9 a.m. to 1 p.m. at the Madison, Loews Hotel, 1177 15th Street, NW., Montpelier Room, Washington, DC 20005. Issues to be discussed include, but not limited to: The Issue Management Process, The New Proposed Form Regarding Uncertain Tax Positions, Automated Under Reporting (AUR) Soft Notice CP2057, Repayment of First Time Homebuyer Credit, The Filing Requirements for the Report of Foreign Bank and Financial Accounts (“FBAR”) are Confusing and Extremely Overbroad, Collection Standard Should Be Revised To Enhance Collection and to Reduce Installment Payment Default Rates, Circular 230 Enrollment of Former Internal Revenue Service Employees, Recommendations Regarding Continuing Education Program and Sponsor Requirements Under Proposed Changes to Circular 230. Reports from the four IRSAC subgroups, Large Business and International, Small Business/Self-Employed, Wage & Investment, and Office of Professional Responsibility will also be presented and discussed. Last minute agenda changes may preclude advanced notice. The meeting room accommodates approximately 80 people, IRSAC members and Internal Revenue Service officials inclusive. Due to limited seating, please call Anna Millikan to confirm your attendance. Ms. Millikan can be reached at 202-622-6433. Attendees are encouraged to arrive at least 30 minutes before the meeting begins. Should you wish the IRSAC to consider a written statement, please either call 202-622-6433, write to Internal Revenue Service, Office of National Public Liaison, CL:NPL:7559, 1111 Constitution Avenue, NW., Washington, DC 20224, or e-mail *public_liaison@irs.gov.

Dated: October 21, 2010.
Candice Cromling,
Director, National Public Liaison.

[FR Doc. 2010-27116 Filed 10-26-10; 8:45 am]

BILLING CODE 4830-01-P